DEPARTMENT OF VETERANS AFFAIRS

[OMB Control No. 2900-0716]

Proposed Information Collection (Complaint of Employment Discrimination) Activity: Comment Request

AGENCY: Human Resources and Administration, Department of Veterans Affairs.

ACTION: Notice.

SUMMARY: The Human Resources and Administration (HRA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to process a complaint of employment discrimination.

DATES: Written comments and recommendations on the proposed collection of information should be received on or before January 12, 2015

ADDRESSES: Submit written comments on the collection of information through the Federal Docket Management System (FDMS) at www.Regulations.gov or to Jean Hayes, Human Resources and Administration (05), Department of Veterans Affairs, 810 Vermont Avenue NW., Washington, DC 20420 or email: jean.hayes@va.gov. Please refer to “OMB Control No. 2900-0716” in any correspondence.

FOR FURTHER INFORMATION CONTACT: Jean Hayes at (202) 461-7863.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, HRA invites comments on: (1) Whether the proposed collection of information is necessary for the proper performance of HRA's functions, including whether the information will have practical utility; (2) the accuracy of HRA's estimate of the burden of the proposed collection of information; (3) ways to enhance the quality, utility, and clarity of the information to be collected; and (4) ways to minimize the burden of the collection of information on respondents, including through the use of automated collection techniques or the use of other forms of information technology.

Title: Complaint of Employment Discrimination, VA Form 4939.

OMB Control Number: 2900-0716.

Type of Review: Revision of a currently approved collection.

Abstract: VA employees, former employees and applicants for employment who believe they were denied employment based on race, color, religion, gender, national origin age, physical or mental disability and/or reprisal for prior Equal Employment Opportunity activity complete VA Form 4939 to file a complaint of discrimination.

Affected Public: Individuals or households.

Estimated Annual Burden: 210 hours.

Estimated Average Burden Per Respondent: 30 minutes.

Frequency of Response: One time.

Estimated Number of Respondents: 419.

Dated: November 6, 2014.
By direction of the Secretary:
Crystal Rennie,
Department Clearance Officer, Department of Veterans Affairs.

[FR Doc. 2014-26722 Filed 11-10-14; 8:45 am]

BILLING CODE 8320-01-P